DEPARTMENT OF COMMERCE

International Trade Administration

The Regents of the University of Michigan, et al.; Notice of Decision on Application for Duty-Free Entry of Scientific Instruments

This is a decision pursuant to section 6(c) of the Educational, Scientific, and Cultural Materials Importation Act of 1966 (Pub. L. 89-651, as amended by Pub. L. 106-36; 80 Stat. 897; 15 CFR part 301). On April 20, 2024, the Department of Commerce published a notice in the Federal Register requesting public comment on whether instruments of equivalent scientific value, for the purposes for which the instruments identified in the docket(s) below are intended to be used, are being manufactured in the United States. See Application(s) for Duty-Free Entry of Scientific Instruments, 89 FR 31723-24, April 25, 2024 (Notice). We received no public comments.

Comments: None received. Decision: Approved. We know of no instrument of equivalent scientific value to the foreign instrument described below, for such purposes as this is intended to be used, that was being manufactured in the United States at the time of order.

Docket Number: 24-009. Applicant: The Regents of the University of Michigan, 5082 Wolverine Tower, 3003 South State Street, Ann Arbor, MI 48109-1287. Instrument: Formula Student Motor and Motor Controllers. Manufacturer: AMK Motion GmbH + CoKG, Germany. Intended Use: The instrument is intended to be used to teach current engineering students at the University of Michigan about vehicle integration, design, and dynamics. This is taught to students through participation in the national wide intercollegiate Formula SAE competitions. This motor is a critical component in the electric powertrain of the vehicle as each motor will independently control each wheel of the car. These specific motors from AMK allow our team to learn the fundamentals of such a process without having to design and manufacture our motors and motor controllers, which is a far more expensive, time-consuming, and knowledge-heavy process.

Dated: June 11, 2024.
Gregory W. Campbell,
Director, Subsidies and Economic Analysis, Enforcement and Compliance.

[FR Doc. 2024-13226 Filed 6-14-24; 8:45 am]

BILLING CODE 3510-DS-P